DEPARTMENT OF TRANSPORTATION

Office of the Secretary

[Docket No. DOT-OST-2012-0111]

Senior Executive Service Performance Review Boards Membership

AGENCY: Office of the Secretary, Department of Transportation (DOT).

ACTION: Notice of Performance Review Board (PRB) appointments.

SUMMARY: DOT publishes the names of the persons selected to serve on the various Departmental PRBs as required by 5 U.S.C. 4314(c)(4).

FOR FURTHER INFORMATION CONTACT: Nancy A. Mowry, Director, Departmental Office of Human Resource Management, (202) 366-4088.

SUPPLEMENTARY INFORMATION: The persons named below have been selected to serve on one or more Departmental PRBs.

Issued in Washington, DC, on July 17, 2012.
Brodi L. Fontenot,
Deputy Assistant Secretary for Administration.

Department of Transportation

Federal Highway Administration

Alicandri, Elizabeth

Arnold, Robert E.

Baxter, John R.

Bezio, Brian R.

Brecht-Clark, Jan M.

Brown, Janice W.

Castellanos, Nelson

Cheatham, James A.

Conner, Clara H.

Curtis, Joyce A.

DeCarme, David G.

Elston, Debra S.

Evans, Monique R.

Furst, Anthony T.

Griffith, Michael S.

Holian, Thomas P.

Kehrli, Mark R.

Knopp, Martin C.

Konove, Elissa K.

Lindley, Jeffrey A.

Lucero, Amy C.

Lwin, Maung Myint

Marchese, April Lynn

McElroy, Regina S.

Miller, Thomas R.

Nadeau, Gregory G.

Nicol, David A.

Pagan-Ortiz, Jorge E.

Paniati, Jeffrey F.

Peters, Joseph I.

Ridenour, Melisa Lee

Saunders, Ian C.

Shepard, Gloria Morgan

Solomon, Gerald L.

St. Denis, Catherine

Stephanos, Peter J.

Suarez, Ricardo

Tischer, Mary Lynn

Toole, Patricia Ann

Trentacoste, Michael F.

Waidelich, Jr., Walter C.

Winter, David R.

Wlaschin, Julius B.

Federal Motor Carrier Administration

Amos, Anna J.

Bronrott, William A.

Collins, Anne L.

Dillingham, Steven D.

Horan III, Charles A.

Jefferson, Daphne Y.

Leone, Geraldine K.

Minor, Larry W.

Smith, Steven K.

Quade III, William A.

Van Steenburg, John W.

Federal Railroad Administration

Haley, Michael T.

Hedlund, Karen J.

Hill, Corey W.

Hynes, Ronald E.

Lauby, Robert C.

Logue, Michael J.

Nissenbaum, Paul

Pennington, Rebecca A.

Strang, Jo E.

Tunna, John M.

Federal Transit Administration

Biehl, Scott A.

Buchanan-Smith, Henrika

Carter, Dorval R.

Hynes-Cherin, Brigid

Linnertz, Ann M.

McMillan, Therese Watkins

Mello, Mary Elizabeth

Patrick, Robert C.

Rogers, Leslie T.

Simon, Marisol R.

Taylor, Yvette G.

Tuccillo, Robert J.

Valdes, Vincent

Welbes, Matthew J.

Maritime Administration

Bohnert, Roger V.

Brohl, Helen A.

Byrne, Joseph Andrew

Kumar, Shashi N.

Lesnick, H. Keith

McMahon, Christopher J.

Moschkin, Lydia

Pixa, Rand R.

Tokarski, Kevin M.

Weaver, Janice G.

National Highway Traffic Safety Administration

Abraham, Julie

Beuse, Nathaniel M.

Bonanti, Christopher J.

Borris II, Frank S.

Brown, Michael L.

Carra, Joseph S.

Coggins, Colleen P.

Donaldson, K. John

Geraci, Michael N.

Guerci, Lloyd S.

Gunnels, Mary D.

Harris, Claude H.

Maddox, John M.

McLaughlin, Brian M.

McLaughlin, Susan G.

Medford, Ronald L.

Michael, Jeffrey P.

Saul, Roger A.

Shelton, Terry T.

Simons, James F.

Smith, Daniel C.

Vincent, O. Kevin

Walter, Gregory A.

Wood, Stephen P.

Office of the Secretary

Bell, David K.

Brown, Gregory A.

DeBoer, Joan M.

Eisner, Neil R.

Fields, George C.

Forsgren, Janet R.

Geier, Paul M.

Gretch, Paul L.

Hazeur, Camille M.

Herlihy, Thomas W.

Homan, Todd M.

Horn, Donald H.

Hurdle, Lana T.

Jackson, Ronald A.

Jones, Mary N. Whigham

Jones, Maureen A.

Kaleta, Judith S.

Lawson, Linda L.

Lee, Jr., Robert M.

Lefevre, Maria S.

Lowder, Michael W.

McDermott, Susan E.

Mowry, Nancy A.

Osborne, Elizabeth D.

Petrosino-Woolverton, Marie

Podberesky, Samuel

Rivait, David J.

Scarton, Amy M.

Schmidt, Robert T.

Smith, Willie H.

Streitmatter, Marlise

Szabat, Joel M.

Washington, Keith E.

Wells, John V.

Ziff, Laura M.

Pipeline and Hazardous Materials Safety Administration

Daugherty, Linda

El-Sibaie, Magdy A.

Mayberry, Alan K.

Posten, R. Ryan

Poyer, Scott A.

Summitt, Monica J.

Wiese, Jeffrey D.

Research and Innovative Technology Administration

Aylward, Anne D.

Hu, Patricia S.

Ishihara, David S.

Johns, Robert C.

Russo, Anthony J.

Winfree, Gregory D.

Saint Lawrence Seaway Development Corporation

Middlebrook, Craig H.

Pisani, Salvatore L.

[FR Doc. 2012-18007 Filed 7-25-12; 8:45 am]

BILLING CODE 4910-9X-P